DEPARTMENT OF COMMERCE

National Oceanic and Atmospheric Administration

RIN 0648-XC853

Draft 2013 Marine Mammal Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on the draft 2013 SARs.

DATES: Comments must be received by February 4, 2014.

ADDRESSES: The 2013 draft SARs are available in electronic form via the Internet at http://www.nmfs.noaa.gov/pr/sars/draft.htm.

Copies of the Alaska Regional SARs may be requested from Dee Allen, Alaska Fisheries Science Center, NMFS, 7600 Sand Point Way, NE BIN 15700, Seattle, WA 98115-0070.

Copies of the Atlantic, Gulf of Mexico, and Caribbean Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

You may submit comments, identified by [NOAA-NMFS-2013-0136], by any of the following methods:

Electronic Submissions: Submit all electronic public comments via the Federal eRulemaking Portal http://www.regulations.gov.

Mail: Send comments or requests for copies of reports to: Chief, Marine Mammal and Sea Turtle Conservation Division, Office of Protected Resources, National Marine Fisheries Service, 1315 East-West Highway, Silver Spring, MD 20910-3226, Attn: Stock Assessments.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Shannon Bettridge, Office of Protected Resources, 301-427-8402, Shannon.Bettridge@noaa.gov; Dee Allen 206-526-4048, Dee.Allen@noaa.gov, regarding Alaska regional stock assessments; Gordon Waring, 508-495-2311, Gordon.Waring@noaa.gov, regarding Atlantic, Gulf of Mexico, and Caribbean regional stock assessments; or Jim Carretta, 858-546-7171, Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States, including the Exclusive Economic Zone. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every three years for non-strategic stocks. The term “strategic stock” means a marine mammal stock: (A) For which the level of direct human-caused mortality exceeds the potential biological removal level; (B) which, based on the best available scientific information, is declining and is likely to be listed as a threatened species under the Endangered Species Act (ESA) within the foreseeable future; or (C) which is listed as a threatened species or endangered species under the ESA. NMFS and the FWS are required to revise a SAR if the status of the stock has changed or can be more accurately determined. NMFS, in conjunction with the Alaska, Atlantic, and Pacific independent Scientific Review Groups (SRGs), reviewed the status of marine mammal stocks as required and revised reports in the Alaska, Atlantic, and Pacific regions to incorporate new information.

NMFS updated its serious injury designation and reporting process, which uses guidance from previous serious injury workshops, expert opinion, and analysis of historic injury cases to develop new criteria for distinguishing serious from non-serious injury. The NMFS Serious Injury Determination Policy was finalized in January 2012 and was first applied to the draft 2013 marine mammal SARs. The SARs report five-year averages for serious injury; thus, application of the new procedure involved retroactively reviewing the past five years of injury determinations for 2007-2011. NMFS defines serious injury as an “injury that is more likely than not to result in mortality” (50 CFR 229.2). Injury determinations for stock assessments revised in 2013 or later incorporate the new serious injury guidelines, based on the most recent five-year period for which data are available. NMFS solicits public comments on the draft 2013 SARs.

Alaska Reports

In the Alaska region (waters off Alaska that are under the jurisdiction of the United States), SARs for 25 Alaska stocks (16 “strategic”, 9 “non-strategic”) were updated. All stocks were reviewed and the following stocks were revised for 2013: Steller sea lion (western and eastern U.S. stocks), northern fur seal, bearded seal, ringed seal, ribbon seal, Cook Inlet beluga whales, narwhal, killer whale (Alaska resident; northern resident; Gulf of Alaska, Aleutian Islands, and Bering Sea transient; AT1 transient; west coast transient stocks), harbor porpoise (southeast Alaska, Gulf of Alaska, and Bering Sea stocks), sperm whale, beaked whales (Baird's, Cuvier's, and Stejneger's), western and central stocks of humpback whales, fin whale, eastern North Pacific right whale, and bowhead whale. Most revisions included updates of abundance and/or mortality and serious injury estimates. For the fin whale SAR, the previous minimum population estimate was based on summing estimates from two surveys occurring in different years: one survey conducted along the Aleutian Islands, and another survey conducted in the Bering Sea. New information indicates that fin whales surveyed in the Aleutian Islands could migrate into the Bering Sea and be counted during the Bering Sea surveys. There are also indications that fin whale distribution in the Bering Sea is related to oceanographic conditions, making it possible that whales could be double counted when estimates from different years are summed. Therefore, the minimum abundance estimate of the entire stock is unknown and potential biological removal level (PBR) was changed to undetermined.

Two of the Alaska region updates resulted in change of status of a stock: Ringed seal and bearded seal stocks changed from non-strategic to strategic. On December 28, 2012, NMFS listed the Alaska Stocks of bearded seals and ringed seals as “threatened” under the Endangered Species Act (77 FR 76740). Because of the threatened status under the ESA, these stocks are considered “depleted” under the MMPA and are classified as strategic stocks. Information on the remaining Alaska region stocks can be found in the final 2012 reports (Allen and Angliss, 2013).

Typically, the most recent five years of data are used for estimating average annual serious injury and mortality of stocks. In 2007, the NMFS Alaska Fisheries Science Center (AFSC) developed a new database for the fisheries observer data and analytical methods for estimating bycatch were updated. As a result of these changes, AFSC determined that data from 2007 onward could not be combined with data from analyses of data prior to 2006. As a result, for the 2012 SARs fishery observer serious injury and mortality estimates were based on an analysis of the most recent four-year period from 2007-2010. For the 2013 SARs, mortality and serious injury data are summarized for the five-year period from 2007-2011 for the Alaska groundfish fisheries.

The new injury guidelines for assessing human-caused marine mammal injuries have been implemented in the draft 2013 SARs. Data from 2007-2011 were analyzed (or re-analyzed under the new guidelines), where available, and determinations were made under new guidance defined in the policy and procedural directives. Appendix 8 to the Alaska SARs, which summarizes humpback whale mortalities and serious injuries, is no longer being maintained and has been removed. These data will be available and determination decisions depicted in more detail in the Alaska mortality and serious injury report for 2007-2012, currently in preparation (Allen and Helker in prep).

Atlantic Reports

In the Atlantic region (including the Atlantic coast, Gulf Coast, and U.S. territories in the Caribbean), 45 Atlantic and Gulf of Mexico SARs were updated and one added—the Northern South Carolina Estuarine System stock of bottlenose dolphins, a strategic stock. Most revisions included updates of abundance and/or serious injury and mortality estimates. Strategic stocks included: North Atlantic right whale, humpback whale, fin whale, sei whale, sperm whale, bottlenose dolphin (Western North Atlantic: coastal/northern migratory, coastal/southern migratory, coastal/South Carolina/Georgia, coastal/northern Florida, coastal/central Florida; Northern North Carolina Estuarine System; Southern North Carolina Estuarine System; Charleston Estuarine System; Northern Georgia/Southern South Carolina Estuarine System; Southern Georgia Estuarine System; Jacksonville Estuarine System; Indian River Lagoon Estuarine System; Biscayne Bay) and harbor porpoise (Gulf of Maine/Bay of Fundy). Non-strategic stocks included: Minke whale, dwarf sperm whale, pygmy sperm whale, Cuvier's beaked whale, Blainville's beaked whale, Gervais beaked whale, Sowerby's beaked whale, True's beaked whale, long-finned pilot whale, short-finned pilot whale, Atlantic white-sided dolphin, short-beaked common dolphin, Atlantic spotted dolphin; pantropical spotted dolphin, striped dolphin, rough-toothed dolphin, Clymene dolphin, spinner dolphin, bottlenose dolphin (Western North Atlantic/offshore; Florida Bay; Gulf of Mexico Oceanic), gray seal, harp seal, harbor seal, and Risso's dolphin (Western North Atlantic, Gulf of Mexico Oceanic).

The status of long-finned pilot whales changed from strategic to non-strategic, because serious injury and mortality likely do not exceed PBR. Information on the remaining Atlantic region stocks can be found in the final 2012 reports (Waring et al., 2012).

Pacific Reports

In the Pacific region (waters along the west coast of the United States, within waters surrounding the main and Northwest Hawaiian Islands, and within waters surrounding U.S. territories in the Western Pacific), SARs were revised for 52 stocks under NMFS jurisdiction. Two stocks changed from non-strategic to strategic: Cuvier's beaked whale, CA/OR/WA, and mesoplodont beaked whales, CA/OR/WA.

Strategic stocks included: Monk seal, killer whale (Eastern North Pacific Southern Resident), Mesoplodont beaked whales (CA/OR/WA), Cuvier's beaked whale (CA/OR/WA), humpback whale, blue whale (Central North Pacific, Eastern North Pacific), fin whale (Hawaii, CA/OR/WA), false killer whale (Main Hawaiian Islands, Hawaii Pelagic), sperm whale (Hawaii), and sei whale. Non-strategic stocks included: Harbor seal (OR/WA coast, Northern Washington Inland waters, Southern Puget Sound, and Hood Canal), northern fur seal, harbor porpoise (Morro Bay, Monterey Bay, San Francisco—Russian River, Northern California/Southern Oregon, Northern Oregon/Washington coast), Baird's beaked whale, Pacific white-sided dolphin, common bottlenose dolphin (CA/OR/WA Offshore, Hawaii Pelagic, `Kaua'I and Ni'ihau, O'ahu, four-islands region, Hawaii Island), gray whale, Risso's dolphin, pantropical spotted dolphin (Hawaii pelagic, O'ahu, four-islands region, Hawaii Island), striped dolphin, Fraser's dolphin, melon-headed whale (Hawaiian Islands, Kohala Resident), pygmy killer whale, false killer whale (Northwestern Hawaiian Islands), killer whale (Hawaii), short-finned pilot whale, Blainville's beaked whale, Longman's beaked whale, Cuvier's beaked whale (Hawaii), pygmy sperm whale, dwarf sperm whale, minke whale, Bryde's whale. Information on the remaining Pacific region stocks can be found in the final 2012 reports (Carretta et al., 2013).

Three new prospective stocks of harbor seals in Washington inland waters are presented (Hood Canal, Southern Puget Sound, and Washington Inland Waters), based on recent genetic and pupping phenology data. The Hawaii stock of melon-headed whales was split into two: The Kohala resident stock and the Hawaiian Islands stock (both non-strategic). The Hawaii stock of pantropical spotted dolphin was split into four (all non-strategic): The Oahu stock, the 4-Islands stock, the Hawaii Island stock, and the Hawaii pelagic stock.

NMFS intended to prepare a separate stock assessment report for the western stock of gray whales in 2013; however, the agency was awaiting completion of the Report of the NMFS Gray Whale Stock Identification Workshop (NMFS 2013) before drafting a SAR for this stock. NMFS anticipates preparing a SAR for the western stock of gray whales in 2014.

The San Miguel Island stock of northern fur seal has been renamed the “California Northern Fur Seal stock,” to reflect that in addition to San Miguel Island, this species regularly breeds at the Farallon Islands of California.

Dated: October 31, 2013.
Donna S. Wieting,
Director, Office of Protected Resources, National Marine Fisheries Service.

[FR Doc. 2013-26598 Filed 11-5-13; 8:45 am]

BILLING CODE 3510-22-P